POSTAL REGULATORY COMMISSION

[Docket Nos. MC2008-8 and CP2008-26; Order No. 111]

Priority Mail Contract

AGENCY: Postal Regulatory Commission.

ACTION: Notice.

SUMMARY: The Commission is noticing a recently-filed Postal Service request to add Priority Mail Contract 1 to the Competitive Product List. The Postal Service has also filed a related contract. The notice addresses procedural steps associated with these filings.

DATES: Comments are due October 9, 2008.

ADDRESSES: Submit comments electronically via the Commission's Filing Online system at http://www.prc.gov.

FOR FURTHER INFORMATION CONTACT: Stephen L. Sharfman, General Counsel, 202-789-6820 and stephen.sharfman@prc.gov.

SUPPLEMENTARY INFORMATION:

I. Introduction

On September 23, 2008, the Postal Service filed a formal request pursuant to 39 U.S.C. 3642 and 39 CFR 3020.30 et seq. to add the Priority Mail Contract 1 product to the Competitive Product List. The Postal Service asserts that the Priority Mail Contract 1 product is a competitive product “not of general applicability” within the meaning of 39 U.S.C. 3632(b)(3). This Request has been assigned Docket No. MC2008-8.¹

¹ Request of the United States Postal Service to Add Priority Mail Contract to Competitive Product List and Notice of Establishment of Rates and Class Not of General Applicability, September 23, 2008 (Request).

The Postal Service contemporaneously filed a contract related to the proposed new product pursuant to 39 U.S.C. 3632(b)(3) and 39 CFR 3015.5. The contract is assigned Docket No. CP2008-26. The Postal Service represents that the contract fits within the proposed Mail Classification Schedule (MCS) language and is set to expire 2 years from the effective date unless renewed by mutual consent.

Request. The Request is filed pursuant to 39 U.S.C. 3642 and 39 CFR 3020.30 et seq. The Request incorporates (1) A redacted version of the Governors' Decision authorizing the new product; (2) a redacted version of the contract; (3) requested changes in the MCS product list; (4) submission of supporting material under seal; and (5) certification of compliance with 39 U.S.C. 3633(a).² Substantively, it requests that the Priority Mail Contract 1 product be added to the competitive product list. Request at 1-2. The Postal Service states the service to be provided under the contract will cover its attributable costs and make a positive contribution to coverage of institutional costs.³ The Postal Service also asserts that the contract will increase contribution toward the requisite 5.5 percent of the Postal Service's total institutional costs. As a result, the Request contends there will be no issue of subsidization of competitive products by market dominant products. Id. at 1.

² Attachment A to the Request consists of the redacted Decision of the Governors of the United States Postal Service on Establishment of Rates and Class Not of General Applicability for Priority Mail Service (Governors' Decision No. 08-11). The Governors' Decision includes an attachment which is an analysis of the proposed Priority Mail Service Contract. Attachment B is the redacted version of the contract. Attachment C shows the requested changes in the MCS product list. Attachment D provides a statement of supporting justification for this Request. Attachment E provides the certification of compliance with 39 U.S.C. 3633(a).

³ See Attachment D which provides information on the impact of the product cost and states that Priority Mail is provided in a highly competitive market which affects the pricing of these products.

The Postal Service's filing includes a redacted version of the contract related to the proposed new product pursuant to 39 U.S.C. 3632(b)(3) and 39 CFR 3015.5. By its terms, the contract will expire 2 years from the effective date, which is proposed to be 1 day after the Commission approves the required addition of this product to the product list. The Postal Service maintains that the contract pricing and customer-specific information, as well as portions of the Governors' Decision, should remain confidential.

In its Request, the Postal Service provides an analysis of the contract which, among other things, concludes that it is consistent with 39 U.S.C. 3633(a) and 39 CFR 3015.7(c). The analysis notes that the contract is not risk free, but concludes that the risks are manageable. See Attachment to Governors' Decision.

II. Notice of Filings

The Commission establishes Docket Nos. MC2008-8 and CP2008-26 for consideration of the Request pertaining to the Priority Mail Contract 1 product and the related contract. In keeping with practice, these dockets are addressed on a consolidated basis for purposes of this order; however, future filings should be made in the specific docket in which issues being addressed pertain.

Interested persons may submit comments on whether the Postal Service's filings in the captioned dockets are consistent with the policies of 39 U.S.C. 3632, 3633, or 3642. Comments are due no later than October 9, 2008. The public portions of these filings can be accessed via the Commission's Web site (http://www.prc.gov).

The Commission appoints Michael Ravnitzky to serve as Public Representative in the captioned filings.

III. Ordering Paragraphs

It is ordered:

1. The Commission establishes Docket Nos. MC2008-8 and CP2008-26 for consideration of the matters raised in each docket.

2. The Commission, pursuant to 39 U.S.C. 505, appoints Michael Ravnitzky to serve as officer of the Commission (Public Representative) to represent the interests of the general public in these proceedings.

3. Comments by interested persons in these proceedings are due no later than October 9, 2008.

4. The Secretary shall arrange for publication of this order in the Federal Register.

By the Commission.
Steven W. Williams,
Secretary.

[FR Doc. E8-23733 Filed 10-6-08; 8:45 am]

BILLING CODE 7710-FW-P